DEPARTMENT OF AGRICULTURE

Animal and Plant Health Inspection Service

[Docket No. APHIS-2021-0036]

Notice of Request for Revision to and Extension of Approval of an Information Collection; Specimen Submission

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with livestock disease surveillance programs.

DATES: We will consider all comments that we receive on or before September 27, 2021.

ADDRESSES: You may submit comments by either of the following methods.

• Federal eRulemaking Portal: Go to www.regulations.gov. Enter APHIS-2021-0036 in the Search field. Select the Documents tab, then select the Comment button in the list of documents.

• Postal Mail/Commercial Delivery: Send your comment to Docket No. APHIS-2021-0036, Regulatory Analysis and Development, PPD, APHIS, Station 3A-03.8, 4700 River Road, Unit 118, Riverdale, MD 20737-1238.

Supporting documents and any comments we receive on this docket may be viewed at regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information regarding livestock disease surveillance programs, contact Ms. Lori Swiderski, Program Coordinator, Director's Office, National Veterinary Services Laboratories, Diagnostics and Biologics, VS, APHIS, 1920 Dayton Ave., Ames, IA 50010; (515) 337-7405. For more information on the information collection reporting process, contact Mr. Joseph Moxey, APHIS' Paperwork Reduction Act Coordinator, at (301) 851-2483.

SUPPLEMENTARY INFORMATION:

Title: Specimen Submission.

OMB Control Number: 0579-0090.

Type of Request: Revision to and extension of approval of an information collection.

Abstract: The Animal Health Protection Act (7 U.S.C. 8301 et seq.) provides the Secretary of Agriculture broad authority to prohibit or restrict, through orders and regulations, the importation or entry and interstate movement of any animal, article, or means of conveyance if the U.S. Department of Agriculture (USDA) determines that the prohibition or restriction is necessary to prevent the introduction or spread of any pest or disease of livestock within the United States.

Disease prevention is the most effective method for maintaining a healthy animal population and for enhancing the United States' ability to globally compete in the trade of animals and animal products. However, animal disease prevention cannot be accomplished without the existence of an effective disease surveillance program, which is conducted by the USDA's Animal and Plant Health Inspection Service (APHIS), Veterinary Services (VS).

VS forms, which are critical to VS' mission, are routinely used whenever specimens (such as blood, milk, tissue, or urine) from any animal (such as cattle, swine, sheep, goats, horses, and poultry) are submitted to the National Veterinary Services Laboratories for disease testing. If the information within these forms was not collected or collected less frequently, APHIS would not have the critical information necessary to effectively operate a disease surveillance program and identify the animals and herds from which the specimens were taken, allowing effective disease prevention and eradication.

The animal disease surveillance program is based on information submitted on the specimen submission form and continuation sheet, or similar document, and the Parasite Submission form submitted for the Cattle Fever Tick Eradication Program and the National Tick Surveillance Program to identify the individuals submitting tick samples and the animal sources of those samples.

We are asking the Office of Management and Budget (OMB) to approve our use of these information collection activities, as described, for an additional 3 years.

The purpose of this notice is to solicit comments from the public (as well as affected agencies) concerning our information collection. APHIS needs this outside input to help accomplish the following:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond (such as through the use of appropriate automated, electronic, mechanical, or other technological collection techniques, e.g., permitting electronic submission of responses).

Estimate of burden: The public burden for this collection of information is estimated to average 0.319 hours per response.

Respondents: State veterinarians and other State personnel who are qualified and authorized to collect and submit specimens for laboratory analysis, accredited veterinarians, private veterinarians, animal health technicians, herd owners, private laboratories, and research institutions.

Estimated annual number of respondents: 1,871.

Estimated annual number of responses per respondent: 17.

Estimated annual number of responses: 32,546.

Estimated total annual burden on respondents: 10,390 hours. (Due to averaging, the total annual burden hours may not equal the product of the annual number of responses multiplied by the reporting burden per response.)

All responses to this notice will be summarized and included in the request for OMB approval. All comments will also become a matter of public record.

Done in Washington, DC, this 22nd day of July 2021.
Michael Watson,
Acting Administrator, Animal and Plant Health Inspection Service.

[FR Doc. 2021-16033 Filed 7-27-21; 8:45 am]

BILLING CODE 3410-34-P